NUCLEAR REGULATORY COMMISSION

[NRC-2013-0032]

Biweekly Notice, Applications and Amendments to Facility Operating Licenses and Combined Licenses Involving No Significant Hazards Considerations

Background

Pursuant to Section 189a. (2) of the Atomic Energy Act of 1954, as amended (the Act), the U.S. Nuclear Regulatory Commission (NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from January 24, 2013, to February 6, 2013. The last biweekly notice was published on February 5, 2013 (78 FR 8195).

ADDRESSES: You may access information and comment submissions related to this document, which the NRC possesses and are publically available, by searching on http://www.regulations.gov under Docket ID NRC-2013-0032. You may submit comments by any of the following methods:

• Federal Rulemaking Web site: Go to http://www.regulations.gov and search for Docket ID NRC-2013-0032. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2013-0032 when contacting the NRC about the availability of information regarding this document. You may access information related to this document by any of the following methods:

• Federal Rulemaking Web site: Go to http://www.regulations.gov and search for Docket ID NRC-2013-0032.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2013-0032 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in Section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedures” in 10 CFR part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC's guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Carolina Power and Light Company, et al., Docket No. 50-400, Shearon Harris Nuclear Power Plant, Unit 1, Wake County, North Carolina

Date of amendment request: November 29, 2012, as supplemented by letter dated January 3, 2013.

Description of amendment request: The amendment revised the Technical Specification (TS) surveillance requirements for addressing a missed surveillance, and is consistent with the U.S. Nuclear Regulatory Commission approved Revision 6 of Technical Specification Task Force (TSTF) Standard TSs Change Traveler TSTF-358, “Missed Surveillance Requirements.”

Basis for proposed no significant hazards consideration determination: As required by 10 CFR 50.91(a), the licensee has provided its analysis of the issue of no significant hazards consideration, which is presented below:

1. Does the proposed change involve a significant increase in the probability or consequences of an accident previously evaluated?

Response: No.

The proposed change revises the Technical Specifications (TS) Table 3.3-4, Functional Unit 9.b. Loss of Offsite Power, 6.9 kV (kilovolt) Emergency Bus Undervoltage—Secondary time delay values. The Loss of Offsite Power, 6.9 kV (kilovolt) Emergency Bus Undervoltage—Secondary instrumentation functions are not initiators to any accident previously evaluated. As such, the probability of an accident previously evaluated is not increased. The revised values continue to provide reasonable assurance that the Loss of Offsite Power, 6.9 kV (kilovolt) Emergency Bus Undervoltage—Secondary function will continue to perform its intended safety functions. As a result, the proposed change will not increase the consequences of an accident previously evaluated.

Concurrent with this proposed change, the Harris Nuclear Plant is revising its large break loss of coolant accident analysis. The revised analysis will be evaluated in accordance with 10 CFR 50.59 to confirm that a change to the technical specifications incorporated in the license is not required, and the change does not meet any of the criteria in Paragraph (c)(2) of that regulation. The revised analysis will employ the plant-specific methodology ANP-3011(P), Harris Nuclear Plant, Unit 1, Realistic Large Break LOCA Analysis, Revision 1, as approved by NRC Safety Evaluation dated May 30, 2012.

Therefore, the proposed change does not involve a significant increase in the probability or consequences of an accident previously evaluated.

2. Does the proposed amendment create the possibility of a new or different kind of accident from any accident previously evaluated?

Response: No.

The proposed change revises the Technical Specification (TS) Table 3.3-4, Functional Unit 9.b. Loss of Offsite Power, 6.9 kV (kilovolt) Emergency Bus Undervoltage—Secondary time delay values. No new operational conditions beyond those currently allowed are introduced. This change is consistent with the safety analyses assumptions and current plant operating practices. This simply corrects the setpoint consistent with the accident analyses and therefore cannot create the possibility of a new or different kind of accident from any previously evaluated accident.

Therefore, the proposed change does not create the possibility of a new or different kind of accident from any accident previously evaluated.

3. Does the proposed change involve a significant reduction in the margin of safety?

Response: No.

The proposed change revises the Technical Specifications (TS) Table 3.3-4, Functional Unit 9.b. Loss of Offsite Power, 6.9 kV (kilovolt) Emergency Bus Undervoltage—Secondary time delay values. This proposed change implements a reduced time delay to isolate safety buses from offsite power if a Loss of Coolant Accident were to occur coincident with a sustained degraded voltage condition. This provides improved margin to ensure that emergency core cooling system pumps inject water into the reactor vessel within the time assumed and evaluated in the accident analysis.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David T. Conley, Manager—Senior Counsel—Legal Department, Progress Energy Service Company, LLC, Post Office Box 1551, Raleigh, North Carolina 27602.

NRC Branch Chief: Jessie F. Quichocho.

Duke Energy Carolinas, LLC, Docket Nos. 50-269, 50-270, and 50-287, Oconee Nuclear Station, Units 1, 2, and 3 (ONS1, ONS2, and ONS3), Oconee County, South Carolina

Date of amendment request: October 30, 2012.

Description of amendment request: The proposed amendment would revise the Technical Specifications (TSs) to specify that TS 3.8.1 Required Action (RA) C.2.2.5 is cumulative over a 3-year time period for each Keowee Hydroelectric Unit (KHU). The two KHUs serve as the emergency power supply for ONS1, ONS2, and ONS3. RA C.2.2.5 currently allows a 45-day Completion Time once every 3 years to restore an inoperable KHU to service. This revision would allow the 45-day Completion Time to be used as a cumulative allowance over 3 years, rather than once every 3 years. This Completion Time is used for major Keowee Hydroelectric Unit (KHU) maintenance.

Basis for proposed no significant hazards consideration determination: As required by 10 CFR 50.91(a), the licensee provided its analysis of the issue of no significant hazards consideration, which is presented below:

1. Does the proposed change involve a significant increase in the probability or consequences of an accident previously evaluated?

Response: No.

The proposed amendment adds a note to the 45-day Completion Time for Technical Specification (TS) 3.8.1 Required Action (RA) C.2.2.5 to clarify the 45 days is cumulative for each Keowee Hydroelectric Unit (KHU) over a rolling 3-year time period rather than limited to one continuous 45-day time period. During the time that one KHU is inoperable for > 72 hours, a Lee Combustion Turbine (LCT) will be energizing both standby buses, two offsite power sources will be maintained available, and maintenance on electrical distribution systems will not be performed unless necessary.

There is no adverse impact on containment integrity, radiological release pathways, fuel design, filtration systems, main steam relief valve set points, or radwaste systems. No new radiological release pathways are created.

The consequences of an event occurring during the modified 45-day Completion Time, which clarifies the 45 days is cumulative for each KHU over a rolling 3-year time period, are the same as those that would occur during a continuous 45-day Completion Time. Duke Energy reviewed the Probabilistic Risk Assessment (PRA) to gain additional insights concerning the configuration of ONS with one KHU inoperable for one continuous 45 day period versus multiple time periods totally [totaling] 45-days. Based on this review, Duke Energy concluded that there is no change in risk.

Therefore, the probability or consequences of an accident previously evaluated is not significantly increased.

2. Does the proposed change create the possibility of a new or different kind of accident from any accident previously evaluated?

Response: No.

The proposed amendment adds a note to the 45-day Completion Time for TS 3.8.1 Required Action C.2.2.5 to clarify the 45 days is cumulative for each KHU over a rolling 3-year time period rather than limited to one continuous 45-day time period. During the time period that one KHU is inoperable and the 45-day Completion Time is being applied, the redundancy requirement for the emergency power source will be fulfilled by an LCT [Lee Combustion Turbine] and other compensatory measures required by TS 3.8.1 RA C.2.2.1, C.2.2.2, C.2.2.3, and C.2.2.4 will be in place to minimize electrical power system vulnerabilities.

The proposed change to the 45-day Completion Time does not involve a physical effect on the Oconee Units, nor is there any increased risk of an Oconee Unit trip or reactivity excursion. No new failure modes or credible accident scenarios are postulated from this activity.

Therefore, the possibility of a new or different kind of accident from any kind of accident previously evaluated is not created.

3. Does the proposed change involve a significant reduction in a margin of safety?

Response: No.

The proposed amendment adds a note to the 45-day Completion Time for TS 3.8.1 RA C.2.2.5 to clarify the 45 days is cumulative for each KHU over a rolling 3-year time period rather than limited to one continuous 45-day time period. During the time period that one KHU is inoperable and the 45-day Completion Time is being applied, the redundancy requirement for the emergency power source will be fulfilled by an LCT and other compensatory measures required by TS 3.8.1 RA C.2.2.1, C.2.2.2, C.2.2.3, and C.2.2.4 will be in place to minimize electrical power system vulnerabilities.

The proposed TS change does not involve: 1) a physical alteration of the Oconee Units; 2) the installation of new or different equipment; 3) operating any installed equipment in a new or different manner; 4) a change to any set points for parameters which initiate protective or mitigation action; or 5) any impact on the fission product barriers or safety limits.

Therefore, this request does not involve a significant reduction in a margin of safety.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202-1802.

NRC Branch Chief: Robert J. Pascarelli.

Florida Power and Light Company, Docket Nos. 50-250 and 50-251, Turkey Point Nuclear Generating Units 3 and 4, Miami-Dade County, Florida

Date of amendment request: October 30, 2012.

Description of amendment request: The proposed amendments would decrease the time limits in certain actions and surveillance requirements of Technical Specification (TS) 3.5.2, “ECCS [emergency core cooling system] Subsystems,” and revise certain footnotes of TS 3.5.2 for clarity.

Basis for proposed no significant hazards consideration determination: As required by 10 CFR 50.91(a), the licensee has provided its analysis of the issue of no significant hazards consideration, which is presented below:

1. Does the proposed amendment involve a significant increase in the probability or consequences of an accident previously evaluated?

No. The proposed amendment does not change or modify the design or operation of ECCS systems, subsystems, or components. The proposed amendment does not affect any precursors to any accident previously evaluated or do not adversely affect known mitigation equipment or strategies. The proposed amendment provides better assurance that the ECCS systems, subsystems, and components are properly aligned to support safe reactor operation consistent with the licensing and design basis requirements. The proposed changes addressing cascading of emergency power requirements are considered non-intent changes. Therefore, the proposed amendment does not involve a significant increase in the probability or consequences of an accident previously evaluated.

2. Does the proposed amendment create the possibility of a new or different kind of accident from any accident previously evaluated?

No. The proposed amendment provides better assurance that the ECCS systems, subsystems, and components are properly aligned to support safe reactor operation consistent with the licensing and design basis requirements. No new accident initiators are introduced directly or indirectly by the proposed changes. The changes addressing cascading of emergency power requirements are considered non-intent changes. Therefore, the proposed amendment does not create the possibility of a new or different kind of accident from any accident previously evaluated.

3. Does the proposed amendment involve a significant reduction in the margin of safety?

No. The proposed amendment provides better assurance that the ECCS systems, subsystems, and components are properly aligned to support safe reactor operation consistent with the licensing and design basis requirements. The proposed changes correct deficiencies regarding TS LCO [limiting condition for operation] 3.5.2.d and TS SR [surveillance requirement] 4.5.2.a to assure ECCS availability is maintained within the assumptions of the safety analysis. Therefore, the proposed amendment does not involve a significant reduction in the margin of safety.

The NRC staff has reviewed the licensee's analysis and, based on this review, it appears that the three standards of 50.92(c) are satisfied. Therefore, the NRC staff proposes to determine that the amendment request involves no significant hazards consideration.

Attorney for licensee: James Petro, Managing Attorney—Nuclear, Florida Power & Light, P.O. Box 14000, Juno Beach, Florida 33408-0420.

NRC Branch Chief: Jessie F. Quichocho.

Southern Nuclear Operating Company Docket Nos. 52-025 and 52-026, Vogtle Electric Generating Plant (VEGP) Units 3 and 4, Burke County, Georgia

Date of amendment request: December 7, 2012, and revised on January 25, 2013.

Description of amendment request: The proposed change would amend Combined License Nos. NPF-91 and NPF-92 for Vogtle Electric Generating Plant (VEGP) Units 3 and 4 in regard to the Primary Sampling System (PSS) by: (1) replacing containment air return check valve PSS-PL-V024 with a solenoid-operated valve, and (2) redesigning the PSS inside-containment header and adding a PSS containment penetration.

Basis for proposed no significant hazards consideration determination: As required by 10 CFR 50.91(a), the licensee has provided its analysis of the issue of no significant hazards consideration, which is presented below:

1. Does the proposed amendment involve a significant increase in the probability or consequences of an accident previously evaluated?

Response: No.

The Primary Sampling System (PSS) provides the safety-related function of preserving containment integrity by isolation of the PSS lines penetrating containment. The proposed amendment will enhance the ability of the PSS to perform its nonsafety-related function of providing the capability to obtain reactor coolant and containment atmosphere samples, while maintaining the ability of the PSS to perform its safety-related containment isolation function. The replacement of a check valve with a solenoid-operated containment isolation valve and the redesigned inside-containment header does not affect the safety-related function of isolating the PSS lines for containment isolation. The components added by this proposed activity, including tubing and the solenoid-operated containment isolation valve, are designed to the same codes and standards as other components addressed in the certified design that perform similar functions. The additional PSS containment penetration is a passive extension of containment and is identical in form, fit, and function to other PSS sampling containment penetrations currently addressed in the certified AP1000 plant design. The addition of a new PSS containment penetration will not change the maximum allowable leakage rate allowed by Technical Specifications and verified periodically in accordance with regulations. Furthermore, the proposed PSS configuration changes will neither impact any accident source term parameter or fission product barrier nor affect radiological dose consequence analysis.

Therefore, the proposed amendment does not involve a significant increase in the probability or consequences of an accident previously evaluated.

2. Does the proposed amendment create the possibility of a new or different kind of accident from any accident previously evaluated?

Response: No.

The additional containment penetration is similar in form, fit, and function to the PSS penetrations that are currently described in the Updated Final Safety Analysis Report. Because the PSS changes use valve types, piping, and a containment penetration consistent with those already described in the Updated Final Safety Analysis Report, no new failure modes or equipment failure initiators are introduced by these changes. Accordingly, the proposed changes do not create any new malfunctions, failure mechanisms, or accident initiators.

Therefore, the proposed amendment will not create the possibility of a new or different kind of accident from any accident previously evaluated.

3. Does the proposed amendment involve a significant reduction in a margin of safety?

Response: No.

The containment isolation function is not changed by this activity and is bounded by the existing design. The proposed PSS containment penetration is similar in form, fit, and function to other containment penetrations in similar applications in the current certified AP1000 plant design. The additional PSS containment penetration is an extension of containment, and, therefore, does not affect containment or its ability to perform its design function. The addition of PSS components, including the solenoid-operated containment isolation valve, the additional PSS containment penetration, and the associated tubing, do not exceed or alter a design basis or safety limit. Because the containment isolation function, containment leakage rate limit, potential containment leakage, and protective shielding are not changed by this activity and are bounded by the existing design, there is no change to any current margin of safety.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Acting Branch Chief: Lawrence Burkhart.

Previously Published Notices of Consideration of Issuance of Amendments to Facility Operating Licenses and Combined Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Florida Power and Light Company, Docket Nos. 50-250 and 50-251, Turkey Point Generating Units 3 and 4, Miami-Dade County, Florida

Date of application for amendments: September 6, 2012.

Description of amendments request: The proposed amendments would reduce the minimum sodium tetraborate basket loading to 7500 pounds mass in order to lessen the long term sump pH profile, recover design margin, and facilitate sodium tetraborate basket loading and maintenance activities.

Date of publication of individual notice in the Federal Register: January 25, 2013 (78 FR 5505).

Expiration date of individual notice: February 25, 2013 (Public comments) and March 26, 2013 (Hearing requests).

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Dominion Nuclear Connecticut, Inc., Docket No. 50-423, Millstone Power Station, Unit 3, New London County, Connecticut

Date of amendment request: April 2, 2012.

Description of amendment request: The proposed amendment would revise the Millstone Power Station, Unit 3 Technical Specification surveillance requirements for snubbers to conform to the Snubber Examination, Testing, and Service Life Monitoring Program Plan.

Date of issuance: February 6, 2013.

Effective date: As of the date of issuance, and shall be implemented within 30 days.

Amendment No.: 257.

Renewed Facility Operating License No. NPF-49: Amendment revised the License and Technical Specifications.

Date of initial notice in Federal Register: May 29, 2012 (77 FR 31657).

The Commission's related evaluation of the amendment is contained in a Safety Evaluation dated February 6, 2013.

No significant hazards consideration comments received: No.

Energy Northwest, Docket No. 50-397, Columbia Generating Station, Benton County, Washington

Date of application for amendment: January 9, 2012, as supplemented by letters dated July 30 and November 14, 2012.

Brief description of amendment: The amendment implements formatting changes to the Operating License and Technical Specifications (TSs) and the adoption of TSTF-GG-05-01, “Writers Guide for Plant-Specific Improved Technical Specifications,” Revision 1. In addition to these administrative changes, the amendment implements editorial changes which do not result in any changes to the technical or operating requirements.

Date of issuance: January 29, 2013.

Effective date: As of its date of issuance and shall be implemented within 30 days from the date of issuance.

Amendment No.: 225.

Renewed Facility Operating License No. NPF-21: The amendment revised the Facility Operating License and Technical Specifications.

Date of initial notice in Federal Register: July 24, 2012 (77 FR 43374). The supplemental letters dated July 30 and November 14, 2012, provided additional information that clarified the application, did not expand the scope of the application as originally noticed, and did not change the staff's original proposed no significant hazards consideration determination as published in the Federal Register.

The Commission's related evaluation of the amendment is contained in a Safety Evaluation dated January 29, 2013.

No significant hazards consideration comments received: No.

Entergy Nuclear Operations, Inc., Docket No. 50-247, Indian Point Nuclear Generating Unit 2, Westchester County, New York

Date of application for amendment: January 11, 2012, and as supplemented on January 24, 2013.

Brief description of amendment: The amendment revises Technical Specification Table 3.3.6-1, “Containment Purge System and Pressure Relief Line Isolation Instrumentation,” by changing the column titled “ALLOWABLE VALUE” to “TRIP SETPOINT,” and replacing the trip setpoint value of “≤ 3 × background” with a reference to the Offsite Dose Calculation Manual.

Date of issuance: January 29, 2013.

Effective date: As of the date of issuance, and shall be implemented within 30 days.

Amendment No.: 272.

Facility Operating License No. DPR-26: The amendment revised the License and the Technical Specifications.

Date of initial notice in Federal Register: May 1, 2012 (77 FR 25758). The January 24, 2013, supplement provided additional information that clarified the application, did not expand the scope of the application as originally noticed, and did not change the NRC staff's original proposed no significant hazards consideration determination as published in the Federal Register.

The Commission's related evaluation of the amendment is contained in a Safety Evaluation dated January 29, 2013.

No significant hazards consideration comments received: No.

Entergy Nuclear Operations, Inc., Docket No. 50-286, Indian Point Nuclear Generating Unit 3, Westchester County, New York

Date of application for amendment: February 6, 2012, as supplemented on May 2 and August 6, 2012.

Brief description of amendment: The amendment approves changes to Updated Final Safety Analysis Report (UFSAR) Section 9.13, “Backup Spent Fuel Pool Cooling System,” to allow use of the backup spent fuel pool cooling system when the spent fuel pool cooling system is out of service.

Date of issuance: January 28, 2013.

Effective date: As of the date of issuance, and shall be implemented within 30 days. Implementation of the amendment shall also include revision of the UFSAR as described in the licensee's letter dated February 6, 2012, as supplemented by letters dated May 2 and August 6, 2012.

Amendment No.: 249.

Facility Operating License Nos. DPR-26 and DPR-64: The amendment revised the License and the UFSAR.

Date of initial notice in Federal Register: August 21, 2012 (77 FR 50537). The supplements dated May 2 and August 6, 2012, provided additional information that clarified the application, did not expand the scope of the application as originally noticed, and did not change the NRC staff's original proposed no significant hazards consideration determination as published in the Federal Register.

The Commission's related evaluation of the amendment is contained in a Safety Evaluation dated January 28, 2013.

No significant hazards consideration comments received: No.

Entergy Nuclear Vermont Yankee, LLC and Entergy Nuclear Operations, Inc., Docket No. 50-271, Vermont Yankee Nuclear Power Station, Vernon, Vermont

Date of amendment request: February 1, 2012, as supplemented by letters dated August 7 and November 20, 2012.

Brief description of amendment: The amendment revised Technical Specification (TS) 4.7.A.6.b.3 for performing the drywell-to- suppression chamber leak rate test during an operating cycle instead of during a refueling outage.

Date of Issuance: January 30, 2013.

Effective date: As of the date of issuance, and shall be implemented within 60 days.

Amendment No.: 254.

Facility Operating License No. DPR-28: The amendment revised the Renewed Facility Operating License and the Technical Specifications.

Date of initial notice in Federal Register: April 3, 2012 (77 FR 20074). The supplemental letters dated August 7 and November 20, 2012, provided additional information that clarified the application, did not expand the scope of the application as originally noticed, and did not change the staff's original proposed no significant hazards consideration determination as published in the Federal Register.

The Commission's related evaluation of this amendment is contained in a Safety Evaluation dated January 30, 2013.

No significant hazards consideration comments received: No.

Entergy Nuclear Vermont Yankee, LLC and Entergy Nuclear Operations, Inc., Docket No. 50-271, Vermont Yankee Nuclear Power Station, Vernon, Vermont

Date of amendment request: February 1, 2012, as supplemented by letter dated May 8, 2012.

Brief description of amendment: The amendment revised Technical Specification 3.3.B.3 for bypassing the Rod Worth Minimizer consistent with the allowances and required actions recommended in the Standard Technical Specifications, NUREG-1433, Revision 3.

Date of Issuance: January 30, 2013.

Effective date: As of the date of issuance, and shall be implemented within 60 days.

Amendment No.: 255.

Facility Operating License No. DPR-28: The amendment revised the License and the Technical Specifications.

Date of initial notice in Federal Register: April 17, 2012 (77 FR 22812). The supplemental letter dated May 8, 2012, provided additional information that clarified the application, did not expand the scope of the application as originally noticed, and did not change the staff's original proposed no significant hazards consideration determination.

The Commission's related evaluation of this amendment is contained in a Safety Evaluation dated January 30, 2013.

No significant hazards consideration comments received: No.

NextEra Energy Point Beach, LLC, Docket Nos. 50-266 and 50-301, Point Beach Nuclear Plant, Units 1 and 2, Town of Two Creeks, Manitowoc County, Wisconsin

Date of application for amendments: August 16, 2012.

Brief description of amendments: The amendments revise Technical Specification 5.3, “Facility Staff Qualifications,” to clarify the required qualifications of the Operations Manager.

Date of issuance: January 29, 2013.

Effective date: As of the date of issuance and shall be implemented with 30 days from the date of issuance.

Amendment Nos.: 248 (Unit 1) and 252 (Unit 2).

Renewed Facility Operating License Nos. DPR-24 and DPR-27: Amendments revise the Renewed Facility Operating License and Technical Specifications.

Date of initial notice in Federal Register: October 30, 2012 (77 FR 65725).

The Commission's related evaluation of the amendments is contained in a Safety Evaluation dated January 29, 2013.

No significant hazards consideration comments received: No

NextEra Energy Seabrook, LLC, Docket No. 50-443, Seabrook Station, Unit No. 1, Rockingham County, New Hampshire

Date of amendment request: April 30, 2012.

Description of amendment request: The amendment made changes to the Seabrook Emergency Plan associated with the initiating conditions involving a loss of safety system annunciation or indication in the control room. The amendment revises the emergency action levels (EALs) to include radiation monitoring indications within the aggregate of safety system indications that are considered when evaluating a loss of safety system indications rather than separate EALs.

Date of issuance: January 31, 2013.

Effective date: As of its date of issuance and shall be implemented within 90 days.

Amendment No.: 133.

Facility Operating License No. NPF-86: The amendment revised the License.

Date of initial notice in Federal Register: May 29, 2012 (77 FR 31661).

The Commission's related evaluation of the amendment is contained in a Safety Evaluation dated January 31, 2013.

No significant hazards consideration comments received: No.

Northern States Power Company—Minnesota (NSPM), Docket No. 50-263, Monticello Nuclear Generating Plant (MNGP), Wright County, Minnesota

Date of application for amendment: May 8, 2012.

Brief description of amendment: The amendment revises the Technical Specification, Section 3.3.1.1, “Reactor Protection System (RPS) Instrumentation,” requirements pertaining to the Average Power Range Monitors (APRMs). Specifically, it allows a time period for restoration before declaring the channels inoperable when the absolute difference between the APRM channel power and calculated thermal power exceeds the limit of Technical Specification Surveillance Requirement 3.3.1.2.

Date of issuance: January 25, 2013.

Effective date: This license amendment is effective as of the date of its issuance, and shall be implemented within 90 days of issuance.

Amendment No.: 171.

Facility Operating License No. DPR-22. Amendment revises the Renewed Facility Operating License and Technical Specifications.

Date of initial notice in Federal Register: July 24, 2012 (77 FR 43378).

The Commission's related evaluation of the amendment is contained in a Safety Evaluation dated January 25, 2013.

No significant hazards consideration comments received: No.

Northern States Power Company—Minnesota, Docket Nos. 50-282 and 50-306, Prairie Island Nuclear Generating Plant, Units 1 and 2, Goodhue County, Minnesota

Date of application for amendments: October 27, 2009, as supplemented by letters dated April 29, May 25, June 23, August 12, and December 17 of 2010; June 22, July 11, August 9, and December 8 of 2011; February 13, February 24, and September 13 of 2012.

Brief description of amendments: These amendments modify the Prairie Island Nuclear Generating Plant, Units 1 and 2, Technical Specifications (TSs) and licensing basis that supports a full scope implementation of the Alternative Source Term Methodology. The amendments also incorporate TS Task Force-490, “Deletion of E-Bar Definition and Revision to RCS [Reactor Coolant System] Specific Activity Tech Spec,” Revision 0.

Date of issuance: January 22, 2013.

Effective date: As of the date of issuance. The license conditions shall be implemented within 30 days. The balance of the license amendment shall be implemented in accordance with the terms of the license conditions.

Amendment Nos.: 206, 193.

Renewed Facility Operating License Nos. DPR-42 and DPR-60: Amendments revised the Facility Operating Licenses, Appendix B, and the Technical Specifications.

Date of initial notice in Federal Register: April 6, 2010 (75 FR 17466). The supplemental letters contained clarifying information and did not change the initial no significant hazards consideration determination, and did not expand the scope of the original Federal Register notice.

The Commission's related evaluation of the amendments is contained in a Safety Evaluation dated January 22, 2013.

No significant hazards consideration comments received: No.

Pacific Gas and Electric Company, Docket Nos. 50-275 and 50-323, Diablo Canyon Nuclear Power Plant, Units 1 and 2, San Luis Obispo County, California

Date of application for amendment: June 1, 2011, as supplemented by letters dated February 6, May 31, August 6, and November 1, 2012.

Brief description of amendment: The amendments revised Technical Specifications (TS) 3.7.5, “Auxiliary Feedwater (AFW) System,” 3.6.6, “Containment Spray and Cooling Systems,” 3.8.1, “AC Sources—Operating,” 3.8.9, “Distribution Systems—Operating,” and Example 1.3-3 to clarify the operability of an AFW train during alternate alignments; establish conditions, required actions, and completion times when one steam supply to the turbine driven AFW pump is inoperable concurrent with an inoperable motor driven AFW train; and remove second completion times from TSs. These changes are consistent with the guidance provided in Technical Specifications Task Force (TSTF) Travelers TSTF-245, Revision 1, “AFW Train Operable when in Service,” TSTF-340, Revision 3, “Allow 7 day completion Time for a Turbine-driven AFW Pump Inoperable,” TSTF-412, Revision 3, “Provide Actions for One Steam Supply to Turbine Driven AFW/EFW Pump Inoperable,” and TSTF-439, Revision 2, “Eliminate Second Completion Times Limiting Time From Discovery of Failure to Meet an LCO.”

Date of issuance: January 31, 2013.

Effective date: As of its date of issuance and shall be implemented within 90 days from the date of issuance.

Amendment Nos.: Unit 1-215; Unit 2-217.

Facility Operating License Nos. DPR-80 and DPR-82: The amendments revised the Facility Operating Licenses and Technical Specifications.

Date of initial notice in Federal Register: December 31, 2011 (76 FR 77569). The supplemental letters dated February 6, May 31, August 6, and November 1, 2012, provided additional information that clarified the application, did not expand the scope of the application as originally noticed, and did not change the staff's original proposed no significant hazards consideration determination.

The Commission's related evaluation of the amendments is contained in a Safety Evaluation dated January 31, 2013.

No significant hazards consideration comments received: No.

Virginia Electric and Power Company, et al., Docket Nos. 50-280 and 50-281, Surry Power Station, Units 1 and 2, Surry County, Virginia

Date of application for amendments: July 28, 2012.

Brief Description of amendments: These amendments revise Limiting Condition for Operation (LCO) 3.1.H, “Steam Generator (SG) Tube Integrity,” Specification 6.4.Q, “Steam Generator (SG) Program,” and Specification 6.6.A.3, “Steam Generator Tube Inspection Report,” and include technical specification (TS) Bases changes that summarize and clarify the purpose of the TS in accordance with TS Task Force Traveler (TSTF) 510, “Revision to Steam Generator Program Inspection Frequencies and Tube Sample Selection.”

Date of issuance: January 28, 2013.

Effective date: As of the date of issuance and shall be implemented within 60 days.

Amendment Nos.: 278, 278.

Renewed Facility Operating License Nos. DPR-32 and DPR-37: Amendments change the licenses and the technical specifications.

Date of initial notice in Federal Register: October 16, 2012 (77 FR 63351). The supplements dated November 6, 2012, provided additional information that clarified the application, did not expand the scope of the application as originally noticed, and did not change the staff's original proposed no significant hazards consideration determination.

The Commission's related evaluation of the amendments is contained in a Safety Evaluation dated January 28, 2013.

No significant hazards consideration comments received: No.

Virginia Electric and Power Company, Docket Nos. 50-338 and 50-339, North Anna Power Station, Units 1 and 2, Louisa County, Virginia

Date of application for amendment: July 30, December 13, 2012.

Brief description of amendment: The amendments revised the North Anna Technical Specifications (TSs) regarding steam generator tube inspections and reporting as described in TSTF-510, Revision 2, “Revision to Steam Generator Program Inspection Frequencies and Tube Sample Selection.” The changes are consistent with NRC-approved Industry TSTF Standard Technical Specifications change TSTF-510, Revision 2.

Date of issuance: January 28, 2013.

Effective date: As of the date of issuance and shall be implemented within 60 days from the date of issuance.

Amendment Nos.: Unit 1-269 and Unit 2-250.

Renewed Facility Operating License Nos. NPF-4 and NPF-7: Amendments changed the licenses and the technical specifications.

Date of initial notice in Federal Register: October 2, 2012 (77 FR 60155). The supplement dated December 13, 2012, provided additional information that clarified the application, did not expand the scope of the application as originally noticed, and did not change the staff's original proposed no significant hazards consideration determination.

The Commission's related evaluation of the amendments is contained in a Safety Evaluation dated January 28, 2013.

No significant hazards consideration comments received: No.

Notice of Issuance of Amendments to Facility Operating Licenses and Combined Licenses and Final Determination of No Significant Hazards Consideration and Opportunity for a Hearing (Exigent Public Announcement or Emergency Circumstances)

During the period since publication of the last biweekly notice, the Commission has issued the following amendments. The Commission has determined for each of these amendments that the application for the amendment complies with the standards and requirements of the Atomic Energy Act of 1954, as amended (the Act), and the Commission's rules and regulations. The Commission has made appropriate findings as required by the Act and the Commission's rules and regulations in 10 CFR Chapter I, which are set forth in the license amendment.

Because of exigent or emergency circumstances associated with the date the amendment was needed, there was not time for the Commission to publish, for public comment before issuance, its usual notice of consideration of issuance of amendment, proposed no significant hazards consideration determination, and opportunity for a hearing.

For exigent circumstances, the Commission has either issued a Federal Register notice providing opportunity for public comment or has used local media to provide notice to the public in the area surrounding a licensee's facility of the licensee's application and of the Commission's proposed determination of no significant hazards consideration. The Commission has provided a reasonable opportunity for the public to comment, using its best efforts to make available to the public means of communication for the public to respond quickly, and in the case of telephone comments, the comments have been recorded or transcribed as appropriate and the licensee has been informed of the public comments.

In circumstances where failure to act in a timely way would have resulted, for example, in derating or shutdown of a nuclear power plant or in prevention of either resumption of operation or of increase in power output up to the plant's licensed power level, the Commission may not have had an opportunity to provide for public comment on its no significant hazards consideration determination. In such case, the license amendment has been issued without opportunity for comment. If there has been some time for public comment but less than 30 days, the Commission may provide an opportunity for public comment. If comments have been requested, it is so stated. In either event, the State has been consulted by telephone whenever possible.

Under its regulations, the Commission may issue and make an amendment immediately effective, notwithstanding the pendency before it of a request for a hearing from any person, in advance of the holding and completion of any required hearing, where it has determined that no significant hazards consideration is involved.

The Commission has applied the standards of 10 CFR 50.92 and has made a final determination that the amendment involves no significant hazards consideration. The basis for this determination is contained in the documents related to this action. Accordingly, the amendments have been issued and made effective as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the application for amendment, (2) the amendment to Facility Operating License or Combined License, as applicable, and (3) the Commission's related letter, Safety Evaluation and/or Environmental Assessment, as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

The Commission is also offering an opportunity for a hearing with respect to the issuance of the amendment. Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedures” in 10 CFR part 2. Interested person(s) should consult a current copy of 10 CFR 2.309, which is available at the NRC's PDR, located at One White Flint North, Room O1-F21, 11555 Rockville Pike (first floor), Rockville, Maryland 20852, and electronically on the Internet at the NRC's Web site, http://www.nrc.gov/reading-rm/doc-collections/cfr/. If there are problems in accessing the document, contact the PDR's Reference staff at 1-800-397-4209, 301-415-4737, or by email to pdr.resource@nrc.gov. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the petitioner intends to rely in proving the contention at the hearing. The petitioner must also provide references to those specific sources and documents of which the petitioner is aware and on which the petitioner intends to rely to establish those facts or expert opinion. The petition must include sufficient information to show that a genuine dispute exists with the applicant on a material issue of law or fact. Contentions shall be limited to matters within the scope of the amendment under consideration. The contention must be one which, if proven, would entitle the petitioner to relief. A requestor/petitioner who fails to satisfy these requirements with respect to at least one contention will not be permitted to participate as a party.

Those permitted to intervene become parties to the proceeding, subject to any limitations in the order granting leave to intervene, and have the opportunity to participate fully in the conduct of the hearing. Since the Commission has made a final determination that the amendment involves no significant hazards consideration, if a hearing is requested, it will not stay the effectiveness of the amendment. Any hearing held would take place while the amendment is in effect.

All documents filed in the NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the Internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Calvert Cliffs Nuclear Power Plant, LLC, Docket No. 50-318, Calvert Cliffs Nuclear Power Plant, Unit 2, Calvert County, Maryland

Date of amendment request: January 22, 2013, as supplemented by letter dated January 24, 2013.

Description of amendment request: The amendment revised Appendix C of the Renewed Facility Operating License by adding a license condition for Technical Specification 3.6.6, which will allow the “B” train of the Containment Cooling System to be considered operable with a single containment cooling fan and cooler by limiting the refueling water storage tank water temperature, containment average air temperature, containment air pressure, and saltwater inlet temperature for the period from January 26, to February 17, 2013.

Date of issuance: January 25, 2013.

Effective date: As of the date of issuance, and shall be implemented within 30 days.

Amendment No.: 280.

Renewed Facility Operating License No. DPR-69: Amendment revised the License and Appendix C.

Public comments requested as to proposed no significant hazards consideration (NSHC): No. The Commission's related evaluation of the amendment, finding of emergency circumstances, state consultation, and final NSHC determination are contained in a safety evaluation dated January 25, 2013.

Attorney for licensee: Steven L. Miller, General Counsel, Constellation Energy Nuclear Group, LLC, 100 Constellation Way, Suite 200c, Baltimore, MD 21202.

NRC Branch Chief: George Wilson.

Dated at Rockville, Maryland, this 8th day of February 2013.
For the Nuclear Regulatory Commission.
Michele G. Evans,
Director, Division of Operating Reactor Licensing, Office of Nuclear Reactor Regulation.

[FR Doc. 2013-03582 Filed 2-15-13; 8:45 am]

BILLING CODE 7590-01-P